DEPARTMENT OF THE INTERIOR

National Park Service

[NPS-WASO-NAGPRA-16958; PPWOCRADN0-PCU00RP14.R50000]

Notice of Inventory Completion: Department of Anthropology and Sociology, University of Southern Mississippi, Hattiesburg, MS

AGENCY: National Park Service, Interior.

ACTION: Notice.

SUMMARY: The Department of Anthropology and Sociology at the University of Southern Mississippi, Hattiesburg, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Department of Anthropology and Sociology at the University of Southern Mississippi, Hattiesburg. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Department of Anthropology and Sociology at the University of Southern Mississippi, Hattiesburg, at the address in this notice by December 17, 2014.

ADDRESSES: Marie Elaine Danforth, Professor, Department of Anthropology and Sociology, University of Southern Mississippi, 118 College Dr. #5074, Hattiesburg, MS 39406-0001, telephone (601) 266-4306, email m.danforth@usm.edu.

SUPPLEMENTARY INFORMATION: Notice is here given in accordance with the Native American Graves Protection and Repatriation Act (NAGPRA), 25 U.S.C. 3003, of the completion of an inventory of human remains under the control of the Department of Anthropology and Sociology at the University of Southern Mississippi, Hattiesburg.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology and Sociology at the University of Southern Mississippi professional staff in consultation with representatives of the Coushatta Tribe of Louisiana; Mississippi Band of Choctaw Indians; The Chickasaw Nation; The Choctaw Nation of Oklahoma; The Quapaw Tribe of Indians; and the Thlopthlocco Tribal Town. The following tribes were invited to consult but did not participate: Absentee-Shawnee Tribe of Indians of Oklahoma; Alabama-Coushatta Tribe of Texas (previously listed as the Alabama-Coushatta Tribes of Texas); Alabama-Quassarte Tribal Town; Caddo Nation of Oklahoma; Catawba Indian Nation (aka Catawba Tribe of South Carolina); Cherokee Nation; Chitimacha Tribe of Louisiana; Eastern Band of the Cherokee Indians; Eastern Shawnee Tribe of Oklahoma; Jena Band of Choctaw Indians; Kialegge Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations); Shawnee Tribe; The Muscogee (Creek) Nation; The Seminole Nation of Oklahoma; Tunica-Biloxi Indian Tribe; and the United Keetoowah Band of Cherokee Indians in Oklahoma.

History and Description of the Remains

Sometime prior to 1992, human remains representing, at minimum, one individual were removed from an unknown location. The human remains were donated to the University of Southern Mississippi by a student. The student acquired the human remains from a relative who was in law enforcement in the Memphis, TN, area. No further information is available. The human remains consist of a single cranium belonging to an adult. No known individuals were identified. No associated funerary objects are present. Based on geographical, archeological, historical, and other information, there is a shared group identity between these human remains and The Chickasaw Nation and The Quapaw Tribe of Indians.

Determinations Made by the University of Southern Mississippi

Officials of the University of Southern Mississippi have determined that:

• Pursuant to 25 U.S.C. 3001(9), the human remains described in this notice represent the physical remains of at least one individual of Native American ancestry.

• Pursuant to 25 U.S.C. 3001(2), there is a relationship of shared group identity that can be reasonably traced between the Native American human remains and The Chickasaw Nation and The Quapaw Tribe of Indians.

Additional Requestors and Disposition

Lineal descendants or representatives of any Indian tribe or Native Hawaiian organization not identified in this notice that wish to request transfer of control of these human remains should submit a written request with information in support of the request to Marie Elaine Danforth, Professor, Department of Anthropology and Sociology, University of Southern Mississippi, 118 College Dr. #5074, Hattiesburg, MS 39406-0001, telephone (601) 266-4306, email m.danforth@usm.edu, by December 17, 2014. After that date, if no additional requestors have come forward, transfer of control of the human remains to The Chickasaw Nation and The Quapaw Tribe of Indians may proceed.

The University of Southern Mississippi is responsible for notifying the Coushatta Tribe of Louisiana; Mississippi Band of Choctaw Indians; The Chickasaw Nation; The Choctaw Nation of Oklahoma; The Quapaw Tribe of Indians; and the Thlopthlocco Tribal Town that this notice has been published.

Melanie O'Brien,
Acting Manager, National NAGPRA Program.

[FR Doc. 2014-27143 Filed 11-14-14; 8:45 am]

BILLING CODE 4312-50-P